DEPARTMENT OF HOUSING AND URBAN DEVELOPMENT

[Docket No. FR-7002-N-12]

0-Day Notice of Proposed Information Collection: Rural Capacity Building

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 8, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Diane Schmutzler, Management and Program Analyst, CPD, Department of Housing and Urban Development, 451 7th Street SW, Washington, DC 20410; email Diane Schmutzler at Diane.M.Schmutzler@hud.gov or telephone 202-402-4385. This is not a toll-free number. Persons with hearing or speech impairments may access this number through TTY by calling the toll-free Federal Relay Service at (800) 877-8339.

Copies of available documents submitted to OMB may be obtained from Ms. Schmutzler.

SUPPLEMENTARY INFORMATION: This notice informs the public that HUD is seeking approval from OMB for the information collection described in Section A.

A. Overview of Information Collection

Title of Information Collection: Rural Capacity Building.

OMB Approval Number: 2506-0195.

Type of Request: Revision of a currently approved collection.

Form Number: SF-424, SF-424B, SF-LLL, HUD-2880, Multi-Year Budget Form (approval number pending this review).

Description of the need for the information and proposed use: The Rural Capacity Building for Community Development and Affordable Housing (RCB) program and the funding made available have been authorized by the Annual Appropriations Acts each year since FY 2012. The RCB program enhances the capacity and ability of rural housing development organizations, Community Development Corporations (CDCs), Community Housing Development Organizations (CHDOs), local governments, and Indian tribes (eligible beneficiaries) to carry out affordable housing and community development activities in rural areas for the benefit of low- and moderate-income families and persons. The RCB program achieves this by funding National Organizations with expertise in rural housing and rural community development who work directly to build the capacity of eligible beneficiaries. Applicants to the RCB program are required to submit certain information as part of their application for assistance, and as part of the requirements as a grantee.

Respondents (i.e. affected public): National Organizations that are 501(c)(3) organizations with experience working in rural areas.

Estimated Number of Respondents: 20 respondents.

Estimated Number of Responses: 20 responses per year.

Frequency of Response: Once a year.

Average Hours per Response: 44.25 hours.

Total Estimated Burdens: 885.00 hours.

Information collection | Number of respondents | Frequency of response | Responses per annum | Burden hour per response | Total annual burden hours | Hourly cost per response | Annual cost
Application
SF 424 | 0 | 0 | 0 | 0 | 0 | 0 | 0
SF 424B | 0 | 0 | 0 | 0 | 0 | 0 | 0
Multi-Year Budget | 20 | 1 | 20 | 3.00 | 60.00 | 45.00 | $2,700.00
SF LLL | 0 | 0 | 0 | 0 | 0 | 0 | 0
HUD 2880 | 20 | 1 | 20 | 0.25 | 5.00 | 45.00 | 225.00
Rating Factor 1 | 20 | 1 | 20 | 8.00 | 160.00 | 45.00 | 7,200.00
Rating Factor 2 | 20 | 1 | 20 | 8.00 | 160.00 | 45.00 | 7,200.00
Rating Factor 3 | 20 | 1 | 20 | 12.00 | 240.00 | 45.00 | 10,800.00
Rating Factor 4 | 20 | 1 | 20 | 8.00 | 160.00 | 45.00 | 7,200.00
Rating Factor 5 | 20 | 1 | 20 | 5.00 | 100.00 | 45.00 | 4,500.00
Reporting
SF-425 | 0 | 0 | 0 | 0 | 0 | 0 | 0
Totals | 20 |  |  | 44.25 | 885.00 |  | 39,825.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: October 31, 2018.
Neal Rackleff,
Assistant Secretary for Community Planning and Development.

[FR Doc. 2018-24492 Filed 11-8-18; 8:45 am]

BILLING CODE 4210-67-P